DEPARTMENT OF LABOR

Employment and Training Administration

[TA-W-81,045]

Dow Jones & Company, Inc., Dow Jones Content Services Division, Including a Worker of Factiva, Inc., A Subsidiary of Dow Jones Coporation and On-Site Leased Workers From Aerotek, Inc. and Princeton, New Jersey; Amended Certification Regarding Eligibility To Apply for Worker Adjustment Assistance

In accordance with Section 223 of the Trade Act of 1974, as amended (“Act”), 19 U.S.C. 2273, the Department of Labor issued a Certification of Eligibility to Apply for Worker Adjustment Assistance on January 26, 2012, applicable to workers of Aerotek, Inc., working on-site at Dow Jones Corporation, Princeton, New Jersey. The Department's notice of determination was published in the Federal Register on July 16, 2012 (FR Volume 77, Pages 41807-41808).

At the request of an American Job Center in Michigan, the Department reviewed the certification for workers of the subject firm. The workers are engaged in the production of digital newsletters.

The American Job Center reports that the worker group should include a worker of Factiva, Inc., a subsidiary of Dow Jones Corporation who worked from home in Michigan and reported to the Princeton, New Jersey facility.

The amended notice applicable to TA-W-81,045 is hereby issued as follows:

All workers of Dow Jones & Company, Inc., Dow Jones Content Services Division, including a worker of Factiva, Inc., a subsidiary of Dow Jones Corporation, and on-site leased workers from Aerotek, Inc., Princeton, New Jersey (TA-W-81,045) and Generate, Inc., a subsidiary of Dow Jones & Company, Inc., Boston, Massachusetts (TA-W-81,045A) who became totally or partially separated from employment on or after February 13, 2010, through January 26, 2014, and all workers in the group threatened with total or partial separation from employment on the date of certification through two years from the date of certification, are eligible to apply for adjustment assistance under Chapter 2 of Title II of the Trade Act of 1974, as amended.

Signed in Washington, DC, this 31st day of July, 2013.
Michael W. Jaffe,
Certifying Officer, Office of Trade Adjustment Assistance.

[FR Doc. 2013-19545 Filed 8-12-13; 8:45 am]

BILLING CODE 4510-FN-P